ENVIRONMENTAL PROTECTION AGENCY

[FRL-6995-9]

Agency Information Collection Activities: Submission for OMB Review; Comment Request; Reporting Requirements under EPA's National Wastewater Operator Training and Technical Assistance Program

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: National Wastewater Operator Training and Technical Assistance Program, EPA ICR Number 1977.01. The ICR describes the nature of the information collection and its expected burden and cost; where appropriate, it includes the actual data collection instrument.

DATES: Comments must be submitted on or before July 13, 2001.

ADDRESSES: Send comments, referencing EPA ICR No. 1977.01 to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at farmer.sandy@epamail.epa.gov, or download off the Internet at http://www.epa.gov/icr and refer to EPA ICR No. 1977.01. For technical questions about the ICR, contact Curt Baranowski at 202-564-0636 in the U.S. EPA, Office of Wastewater Management, Municipal Assistance Branch (Mail Code 4204-M), 1200 Pennsylvania Avenue, NW., Washington, DC 20460.

SUPPLEMENTARY INFORMATION: Affected entities: Entities potentially affected by this action are state and local governments, state and county colleges, and those organizations which provide training assistance through the Clean Water Act 104(g)(1) Program to municipal wastewater treatment plants.

Estimated Number of Respondents: 48.

Frequency of Response: Biannually and annually.

Estimated Total Annual Hour Burden: 336.

Estimated Total Annualized Capital, O & M Cost Burden: $0.

Title: National Wastewater Treatment Plant Operator Training and Technical Assistance Program. This non-rule ICR is a new collection.

Abstract: The Wastewater Operator Training Program provides on-site technical assistance to municipal wastewater treatment plants. Information will be collected from the network of forty-eight 104(g)(1) training centers set up throughout the United States. The information will be collected to identify the facilities assisted, the different types of assistance the program provides and the environmental outcomes and benefits of the assistance provided by the program. The information will be collected and submitted on either an annual or semi-annual basis. A database and spreadsheet have been developed for this purpose. This ICR will be used by EPA for the technical and financial management of the 104(g)(1) Program. The 104(g)(1) Program training centers shall participate in the information collection, due to the fact that it is a mandatory grant condition. All information in the data system will be made public upon request.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information, was published on January 30, 2001. No comments were received.

Burden Statement: The average annual burden hours to each 104(g)(1) training center grantee will be 7 hours, for a total of 336 hours per year. Data will be collected on an annual basis, in May of each year, for the database collection, and data for the spreadsheet information collection will be conducted on a semi-annual basis, in May and November of each year. Reporting requirements will be included as grant conditions, so it is expected that 100% of the 104(g) training centers will respond to this collection request. All forty-eight (48) training centers and EPA have the necessary equipment, desk-top computers and software, to collect and manage this information. There will be no additional start-up or maintenance costs associated with this project to perform this information collection request. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Send comments on the Agency's need for this information, the accuracy of the provided burden estimates, and any suggested methods for minimizing respondent burden, including through the use of automated collection techniques, to the addresses listed above. Please refer to EPA ICR No. 1977.01 in any correspondence.

Dated: Dated: June 1, 2001.
Oscar Morales,
Director, Collection Strategies Division.

[FR Doc. 01-14900 Filed 6-12-01; 8:45 am]

BILLING CODE 6560-50-P